AGENCY FOR INTERNATIONAL DEVELOPMENT

USAID Revisions to ADS 201 Evaluation Report Requirements

AGENCY: U.S. Agency for International Development (USAID).

ACTION: Reopening of Notice of information collection; request for comment.

SUMMARY: USAID is reopening the comment period for its proposed information collection, “USAID Revisions to ADS 201 Evaluation Report Requirements”. Reopening the comment period will allow USAID to satisfy the 60-day public comment period required by the Paperwork Reduction Act of 1995 (PRA).

DATES: The comment period for the information collection published in the Federal Register on March 28, 2023, at 88 FR 18292, is reopened. Comments should be received on or before December 11, 2023.

ADDRESSES: Written comments and recommendations for the proposed information collection should be sent within 4 days of publication of this notice.

FOR FURTHER INFORMATION CONTACT: Tania Alfonso, talfonso@usaid.gov, 202-712-0144.

SUPPLEMENTARY INFORMATION: USAID, in accordance with the Paperwork Reduction Act of 1995 (PRA) (44 U.S.C. 3506(c)(2)(A)), provides the general public and Federal agencies with an opportunity to comment on the proposed survey. USAID initially published a Notice of the proposed information collection, “USAID Revisions to ADS 201 Evaluation Report Requirements,” in the Federal Register on March 28, 2023 [88 FR 18292]. Due to a clerical error, the comment period closed after 56 days on May 23, 2023, and therefore did not meet not the statutory 60-day comment period required by the PRA. To meet the 60-day comment period requirement, USAID is reopening the comment period for the Notice until December 11, 2023.

Tania Alfonso,
PPL/LER, Program Cycle Supervisory Team Lead, USAID.

[FR Doc. 2023-26635 Filed 12-5-23; 8:45 am]

BILLING CODE 6116-01-P